PRESIDIO TRUST

Notice of New Systems of Records

SUMMARY: The Presidio Trust is providing notice of seven systems of records subject to the Privacy Act of 1974, as amended (5 U.S.C. 552a). The publication of these systems notices is required under 5 U.S.C. 552a(e)(4).

DATES: This action will be effective without further notice on April 15, 2008, unless comments are received that would result in a contrary determination.

ADDRESSES: Privacy Act Officer, The Presidio Trust, 34 Graham St., P.O. Box 29052, San Francisco, CA 94129-0052.

FOR FURTHER INFORMATION CONTACT: Steven Carp (415.561.5300), The Presidio Trust, 34 Graham St., P.O. Box 29052, San Francisco, CA 94129-0052.

SUPPLEMENTARY INFORMATION: As required by Privacy Act of 1974, the Presidio Trust has reviewed all systems of records and identified seven new systems of records.

This notice identifies points of contact for inquiring about the systems, accessing the records, and requesting amendments to the records.

The categories of new systems are: PT-1, Utility Billing Systems; PT-2, Rentals of Special Event Venues; PT-3, Billing and Accounts Receivable; PT-4, Non-Residential Tenant Database; PT-5, Residential Leasing Wait List Files; PT-6, Rejected Residential Leasing Applicant Files; and PT-7, Inactive Residential Leasing Files.

In accordance with 5 U.S.C. 552a(r), a report concerning these record systems has been sent to the Committee on Government Operations of the House of Representatives, the Committee on Governmental Affairs of the Senate, and the Office of Management and Budget.

Table of Contents

PT-1 Utility Billing Systems.

PT-2 Rentals of Special Event Venues.

PT-3 Billing and Accounts Receivable.

PT-4 Non-Residential Tenant Database.

PT-5 Residential Leasing Wait List Files.

PT-6 Rejected Residential Leasing Applicant Files.

PT-7 Inactive Residential Leasing Files.

PT-1

System name:

Utility Billing Systems.

System location:

Presidio Trust Controller's Office, 34 Graham St., P.O. Box 29052, San Francisco, CA 94129-0052.

Categories of individuals covered by the system:

Presidio Trust residential and non-residential tenants who have contracted for utilities services (electric, gas, water, sewer, refuse and/or telecommunications).

Categories of records in the system:

Customer files may contain the individual's name, address, phone numbers and billable utility services. Invoice files may contain the individual's name, address and amounts due for services.

Authority for maintenance of the system:

Title I, Omnibus Parks Public Lands Act of 1996, Public Law 104-333, 110 Stat. 4097.

Purpose(s):

To manage the Presidio Trust's Billing/Accounts Receivable system(s) to issue invoices and collect payments. Name and addresses are needed to mail invoices and customer correspondence. Phone numbers are needed for customer service and past due collections.

Routine uses of records maintained in the system, including categories of users and the purposes of such uses:

In addition to those disclosures generally permitted under 5 U.S.C. 552a(b), all or a portion of the records or information contained in this system may be disclosed outside the Presidio Trust as a routine use pursuant to 5 U.S.C. 552a(b)(3) as follows:

to administer and facilitate leasing and utilization of the Presidio; to administer and facilitate accounts relating to the Presidio Trust;

to administer and facilitate service contracts relating to the Presidio Trust;

to an agency, organization, or individual for the purposes of performing audit or oversight operations as authorized by law;

to the U.S. Department of Justice and to legal counsel when related to litigation or anticipated litigation;

to a court, magistrate, or administrative tribunal in the course of presenting evidence, including disclosures to opposing counsel or witnesses in the course of civil discovery, litigation, or settlement negotiations, or in response to a subpoena, or in connection with criminal law proceedings;

to a Congressional office, for the record of an individual in response to an inquiry from that Congressional office made at the request of the individual to whom the record pertains; or

to Federal, State, or local agencies where necessary to obtain information relevant to the hiring or retention of an employee, or the issuance of a security clearance, contract, license, grant or other benefit.

See also 36 CFR 1008.9.

Disclosure to consumer reporting agencies:

As permitted by 5 U.S.C. 552a(b)(12), and in accordance with section 3(d) of the Federal Claims Collection Act of 1966, as amended (31 U.S.C. 3711(f)), all or a portion of the records or information contained in this system may be disclosed to consumer reporting agencies.

Policies and practices for storing, retrieving, accessing, retaining and disposing of records in the system:

Storage:

Paper and automated (computerized) records.

Retrievability:

By name of individual or address.

Safeguards:

Access to records is limited to the custodian of the records or by persons responsible for servicing the records in the performance of their official duties. Records and computer workstations are stored in locked cabinets or supervised office areas. Access to computerized data is controlled by password.

Retention and disposal:

Paper records are destroyed six years and three months after period covered by the account. Electronic records are retained indefinitely.

System manager(s) and address:

Presidio Trust Controller, Presidio Trust Controller's Office, 34 Graham St., P.O. Box 29052, San Francisco, CA 94129-0052.

Notification procedure:

All inquiries about this system of records shall be addressed to Privacy Act Officer, The Presidio Trust, 34 Graham St., P.O. Box 29052, San Francisco, CA 94129-0052, as provided in 36 CFR 1008.11, .16.

Record access procedures:

Requests for access to a record shall be addressed to Privacy Act Officer, The Presidio Trust, 34 Graham St., P.O. Box 29052, San Francisco, CA 94129-0052, as provided in 36 CFR 1008.13-.14, .16-.17.

Contesting record procedures:

Requests to amend a record shall be addressed to Privacy Act Officer, The Presidio Trust, 34 Graham St., P.O. Box 29052, San Francisco, CA 94129-0052, as provided in 36 CFR 1008.18-.19, .22, .24.

Record source categories:

Individual to whom the record pertains and Presidio Trust property management companies.

PT-2

System name:

Rentals of Special Event Venues.

System location:

Presidio Trust Special Events Office, 34 Graham St., P.O. Box 29052, San Francisco, CA 94129-0052.

Categories of individuals covered by the system:

Presidio Trust clients who have contracted for special events permits or rentals of event venues.

Categories of records in the system:

Client files may contain the individual's name, address, phone numbers and Social Security number. Event files include details of the event and deposit and refund amounts.

Authority for maintenance of the system:

Title I, Omnibus Parks Public Lands Act of 1996, Public Law 104-333, 110 Stat. 4097.

Purpose(s):

To manage the Presidio Trust's special events bookings. Names, addresses and phone numbers are used to coordinate the event with the client. Deposit and refund information is used to manage the client's billing. Social Security numbers are required to issue a refund from remaining deposit amounts.

Routine uses of records maintained in the system, including categories of users and the purposes of such uses:

In addition to those disclosures generally permitted under 5 U.S.C. 552a(b), all or a portion of the records or information contained in this system may be disclosed outside the Presidio Trust as a routine use pursuant to 5 U.S.C. 552a(b)(3) as follows:

to administer and facilitate leasing and utilization of the Presidio;

to administer and facilitate accounts relating to the Presidio Trust;

to administer and facilitate service contracts relating to the Presidio Trust;

to an agency, organization, or individual for the purposes of performing audit or oversight operations as authorized by law;

to the U.S. Department of Justice and to legal counsel when related to litigation or anticipated litigation;

to a court, magistrate, or administrative tribunal in the course of presenting evidence, including disclosures to opposing counsel or witnesses in the course of civil discovery, litigation, or settlement negotiations, or in response to a subpoena, or in connection with criminal law proceedings;

to a Congressional office, for the record of an individual in response to an inquiry from that Congressional office made at the request of the individual to whom the record pertains; or

to Federal, State, or local agencies where necessary to obtain information relevant to the hiring or retention of an employee, or the issuance of a security clearance, contract, license, grant or other benefit.

See also 36 CFR 1008.9.

Disclosure to consumer reporting agencies:

As permitted by 5 U.S.C. 552a(b)(12), and in accordance with section 3(d) of the Federal Claims Collection Act of 1966, as amended (31 U.S.C. 3711(f)), all or a portion of the records or information contained in this system may be disclosed to consumer reporting agencies.

Policies and practices for storing, retrieving, accessing, retaining, and disposing of records in the system:

Storage:

Paper and automated (computerized) records.

Retrievability:

By name of individual or address.

Safeguards:

Access to records is limited to the custodian of the records or by persons responsible for servicing the records in the performance of their official duties. Records and computer workstations are stored in locked cabinets or supervised office areas. Access to computerized data is controlled by password.

Retention and disposal:

Paper records are destroyed six years and three months after period covered by the account. Electronic records are retained indefinitely.

System manager(s) and address:

Presidio Trust Special Events Manager, Presidio Trust Special Events Office, 34 Graham St., P.O. Box 29052, San Francisco, CA 94129-0052.

Notification procedure:

All inquiries about this system of records shall be addressed to Privacy Act Officer, The Presidio Trust, 34 Graham St., P.O. Box 29052, San Francisco, CA 94129-0052, as provided in 36 CFR 1008.11, .16.

Record access procedures:

Requests for access to a record shall be addressed to Privacy Act Officer, The Presidio Trust, 34 Graham St., P.O. Box 29052, San Francisco, CA 94129-0052, as provided in 36 CFR 1008.13-.14, .16-.17.

Contesting record procedures:

Requests to amend a record shall be addressed to Privacy Act Officer, The Presidio Trust, 34 Graham St., P.O. Box 29052, San Francisco, CA 94129-0052, as provided in 36 CFR 1008.18-.19, .22, .24.

Record source categories:

Individual to whom the record pertains, Special Events Coordinator.

PT-3

System name:

Billing and Accounts Receivable.

System location:

Presidio Trust Controller's Office, 34 Graham St., P.O. Box 29052, San Francisco, CA 94129-0052.

Categories of individuals covered by the system:

Presidio Trust residential and non-residential tenants who have contracted for utilities services (electric, gas, water, sewer, refuse and/or telecommunications).

Presidio Trust customers for other services such as rental of special event venues, and other miscellaneous services.

Presidio Trust tenants with past due amounts deemed uncollectible by the Presidio Trust's property management companies (for rent, utilities and/or damages to the property).

Categories of records in the system:

Customer files may contain the individual's name, Social Security number, address and phone numbers. For past due debts, these files may also contain past due notices, including a final Treasury demand letter. Invoice files may contain the individual's name, address and amounts due for services.

Authority for maintenance of the system:

Title I, Omnibus Parks Public Lands Act of 1996, Public Law 104-333, 110 Stat. 4097.

Purpose(s):

To manage the Presidio Trust's Billing/Accounts Receivable systems to issue invoices and collect payments. Names and addresses are needed to mail invoices and customer correspondence. Phone numbers are needed for customer service and past due collections. Social Security numbers are required to assist in the collection of past due amounts.

Routine uses of records maintained in the system, including categories of users and the purposes of such uses:

In addition to those disclosures generally permitted under 5 U.S.C. 552a(b), all or a portion of the records or information contained in this system may be disclosed outside the Presidio Trust as a routine use pursuant to 5 U.S.C. 552a(b)(3) as follows:

to administer and facilitate leasing and utilization of the Presidio;

to administer and facilitate accounts relating to the Presidio Trust;

to administer and facilitate service contracts relating to the Presidio Trust;

to an agency, organization, or individual for the purposes of performing audit or oversight operations as authorized by law;

to the U.S. Department of Justice and to legal counsel when related to litigation or anticipated litigation;

to a court, magistrate, or administrative tribunal in the course of presenting evidence, including disclosures to opposing counsel or witnesses in the course of civil discovery, litigation, or settlement negotiations, or in response to a subpoena, or in connection with criminal law proceedings;

to a Congressional office, for the record of an individual in response to an inquiry from that Congressional office made at the request of the individual to whom the record pertains; or

to Federal, State, or local agencies where necessary to obtain information relevant to the hiring or retention of an employee, or the issuance of a security clearance, contract, license, grant or other benefit.

See also 36 CFR 1008.9.

Disclosure to consumer reporting agencies:

As permitted by 5 U.S.C. 552a(b)(12), and in accordance with section 3(d) of the Federal Claims Collection Act of 1966, as amended (31 U.S.C. 3711(f)), all or a portion of the records or information contained in this system may be disclosed to consumer reporting agencies.

Policies and practices for storing, retrieving, accessing, retaining, and disposing of records in the system:

Storage:

Paper and automated (computerized) records.

Retrievability:

By name of individual or address.

Safeguards:

Access to records is limited to the custodian of the records or by persons responsible for servicing the records in the performance of their official duties. Records and computer workstations are stored in locked cabinets or supervised office areas. Access to computerized data is controlled by password.

Retention and disposal:

Paper records are destroyed six years and three months after period covered by the account. Electronic records are retained indefinitely.

System manager(s) and address:

Presidio Trust Controller, Presidio Trust Controller's Office, 34 Graham St., P.O. Box 29052, San Francisco, CA 94129-0052.

Notification procedure:

All inquiries about this system of records shall be addressed to Privacy Act Officer, The Presidio Trust, 34 Graham St., P.O. Box 29052, San Francisco, CA 94129-0052, as provided in 36 CFR 1008.11, .16.

Record access procedures:

Requests for access to a record shall be addressed to Privacy Act Officer, The Presidio Trust, 34 Graham St., P.O. Box 29052, San Francisco, CA 94129-0052, as provided in 36 CFR 1008.13-.14, .16-.17.

Contesting record procedures:

Requests to amend a record shall be addressed to Privacy Act Officer, The Presidio Trust, 34 Graham St., P.O. Box 29052, San Francisco, CA 94129-0052, as provided in 36 CFR 1008.18-.19, .22, .24.

Record source categories:

Individual to whom the record pertains, Presidio Trust property management companies, Special Events Coordinator.

PT-4

System name:

Non-Residential Tenant Database.

System location:

CB Richard Ellis Management Office, P.O. Box 29546, 103 Montgomery Street, San Francisco, CA 94129.

Categories of individuals covered by the system:

Presidio Trust non-residential tenants who lease Presidio buildings.

Categories of records in the system:

Information pertaining to tenant leases, which may include tenant name, Social Security number (for individuals), address, phone numbers, type of business, rental rates, contact and security deposit information.

Authority for maintenance of the system:

Title I, Omnibus Parks Public Lands Act of 1996, Public Law 104-333, 110 Stat. 4097.

Purpose(s):

To assist in the property management of Presidio Trust non-residential buildings.

Routine uses of records maintained in the system, including categories of users and the purposes of such uses:

In addition to those disclosures generally permitted under 5 U.S.C. 552a(b), all or a portion of the records or information contained in this system may be disclosed outside the Presidio Trust as a routine use pursuant to 5 U.S.C. 552a(b)(3) as follows:

to administer and facilitate leasing and utilization of the Presidio;

to administer and facilitate accounts relating to the Presidio Trust;

to administer and facilitate service contracts relating to the Presidio Trust;

to officers and employees of CB Richard Ellis who have a need for the records or information in the performance of their duties for the purposes described above;

to an agency, organization, or individual for the purposes of performing audit or oversight operations as authorized by law;

to the U.S. Department of Justice and to legal counsel when related to litigation or anticipated litigation;

to a court, magistrate, or administrative tribunal in the course of presenting evidence, including disclosures to opposing counsel or witnesses in the course of civil discovery, litigation, or settlement negotiations, or in response to a subpoena, or in connection with criminal law proceedings;

to a Congressional office, for the record of an individual in response to an inquiry from that Congressional office made at the request of the individual to whom the record pertains; or

to Federal, State, or local agencies where necessary to obtain information relevant to the hiring or retention of an employee, or the issuance of a security clearance, contract, license, grant or other benefit.

See also 36 CFR 1008.9.

Disclosure to consumer reporting agencies:

As permitted by 5 U.S.C. 552a(b)(12), and in accordance with section 3(d) of the Federal Claims Collection Act of 1966, as amended (31 U.S.C. 3711(f)), all or a portion of the records or information contained in this system may be disclosed to consumer reporting agencies.

Policies and practices for storing, retrieving, accessing, retaining, and disposing of records in the system:

Storage:

Computerized records.

Retrievability:

By name of individual, tenant or address.

Safeguards:

Access to records is limited to the custodian of the records and persons who require use of the records in the performance of their official duties.

Computer workstations are stored in supervised office areas. Access to computerized data is controlled by password.

Retention and disposal:

Paper records are destroyed six years and three months after period covered by the account. Electronic records are retained indefinitely.

System manager(s) and address:

CB Richard Ellis Management Office, P.O. Box 29546, 103 Montgomery Street, San Francisco, CA 94129.

Notification procedure:

All inquiries about this system of records shall be addressed to Privacy Act Officer, The Presidio Trust, 34 Graham St., P.O. Box 29052, San Francisco, CA 94129-0052, as provided in 36 CFR 1008.11, .16.

Record access procedures:

Requests for access to a record shall be addressed to Privacy Act Officer, The Presidio Trust, 34 Graham St., P.O. Box 29052, San Francisco, CA 94129-0052, as provided in 36 CFR 1008.13-.14, .16-.17.

Contesting record procedures:

Requests to amend a record shall be addressed to Privacy Act Officer, The Presidio Trust, 34 Graham St., P.O. Box 29052, San Francisco, CA 94129-0052, as provided in 36 CFR 1008.18-.19, .22, .24.

Record source categories:

Individual or entity to whom the record pertains.

PT-5

System name:

Residential Leasing Wait List Files.

System location:

558 Presidio Boulevard, San Francisco, CA 94129. 1504 Pershing Drive, Suite E, San Francisco, CA 94129.

Categories of individuals covered by the system:

Persons applying to become Presidio Trust residential tenants who would lease Presidio Trust buildings. Prospective applicants for Presidio Trust residential leases.

Categories of records in the system:

Information regarding applicants and prospective applicants, including name, address, phone number, desired location, desired date of move and contact history.

Authority for maintenance of the system:

Title I, Omnibus Parks Public Lands Act of 1996, Public Law 104-333, 110 Stat. 4097.

Purpose(s):

To locate and contact persons interested in Presidio Trust residential leases.

Routine uses of records maintained in the system, including categories of users and the purposes of such uses:

In addition to those disclosures generally permitted under 5 U.S.C. 552a(b), all or a portion of the records or information contained in this system may be disclosed outside the Presidio Trust as a routine use pursuant to 5 U.S.C. 552a(b)(3) as follows:

to administer and facilitate leasing and utilization of the Presidio;

to administer and facilitate accounts relating to the Presidio Trust;

to administer and facilitate service contracts relating to the Presidio Trust;

to officers and employees of John Stewart Co. who have a need for the records or information in the performance of their duties for the purposes described above;

to an agency, organization, or individual for the purposes of performing audit or oversight operations as authorized by law;

to the U.S. Department of Justice and to legal counsel when related to litigation or anticipated litigation;

to a court, magistrate, or administrative tribunal in the course of presenting evidence, including disclosures to opposing counsel or witnesses in the course of civil discovery, litigation, or settlement negotiations, or in response to a subpoena, or in connection with criminal law proceedings;

to a Congressional office, for the record of an individual in response to an inquiry from that Congressional office made at the request of the individual to whom the record pertains; or to Federal, State, or local agencies where necessary to obtain information relevant to the hiring or retention of an employee, or the issuance of a security clearance, contract, license, grant or other benefit.

See also 36 CFR 1008.9.

Disclosure to consumer reporting agencies:

As permitted by 5 U.S.C. 552a(b)(12), and in accordance with section 3(d) of the Federal Claims Collection Act of 1966, as amended (31 U.S.C. 3711(f)), all or a portion of the records or information contained in this system may be disclosed to consumer reporting agencies.

Policies and practices for storing, retrieving, accessing, retaining, and disposing of records in the system:

Storage:

Paper and automated (computerized) records.

Retrievability:

By name of individual.

Safeguards:

Access to records is limited to the custodian of the records and persons who require use of the records in the performance of their official duties.

Paper records are stored in file cabinets in supervised office areas or in locked storage areas.

Computer workstations are stored in supervised office areas. Access to computerized data is controlled by password.

Retention and disposal:

Records are retained indefinitely.

System manager(s) and address:

John Stewart Co., 558 Presidio Boulevard, San Francisco, CA 94129.

John Stewart Co., 1504 Pershing Drive, Suite E, San Francisco, CA 94129.

Notification procedure:

All inquiries about this system of records shall be addressed to Privacy Act Officer, The Presidio Trust, 34 Graham St., P.O. Box 29052, San Francisco, CA 94129-0052, as provided in 36 CFR 1008.11, .16.

Record access procedures:

Requests for access to a record shall be addressed to Privacy Act Officer, The Presidio Trust, 34 Graham St., P.O. Box 29052, San Francisco, CA 94129-0052, as provided in 36 CFR 1008.13-.14, .16-.17.

Contesting record procedures:

Requests to amend a record shall be addressed to Privacy Act Officer, The Presidio Trust, 34 Graham St., P.O. Box 29052, San Francisco, CA 94129-0052, as provided in 36 CFR 1008.18-.19, .22, .24.

Record source categories:

Individual to whom the record pertains.

PT-6

System name:

Rejected Residential Leasing Applicant Files.

System location:

558 Presidio Boulevard, San Francisco, CA 94129. 1504 Pershing Drive, Suite E, San Francisco, CA 94129.

Categories of individuals covered by the system:

Individuals who were denied Presidio Trust residential leases.

Categories of records in the system:

Applicant name, current and prior addresses, Social Security number, income, prior landlords, verifications for landlord and employer reference, consumer credit check, civil background report and criminal background report.

Applications for housing in the Baker Beach, South Baker Beach, North Fort Scott and West Washington neighborhoods are located at 1504 Pershing Drive, Suite E. Applications for the remainder of the neighborhoods are located at 558 Presidio Boulevard.

Authority for maintenance of the system:

Title I, Omnibus Parks Public Lands Act of 1996, Public Law 104-333, 110 Stat. 4097.

Purpose(s):

To document why an applicant for a Presidio Trust residential lease was rejected or why an applicant declined a Presidio Trust residential lease.

Routine uses of records maintained in the system, including categories of users and the purposes of such uses:

In addition to those disclosures generally permitted under 5 U.S.C. 552a(b), all or a portion of the records or information contained in this system may be disclosed outside the Presidio Trust as a routine use pursuant to 5 U.S.C. 552a(b)(3) as follows:

to administer and facilitate leasing and utilization of the Presidio;

to administer and facilitate accounts relating to the Presidio Trust;

to administer and facilitate service contracts relating to the Presidio Trust;

to officers and employees of John Stewart Co. who have a need for the records or information in the performance of their duties for the purposes described above;

to an agency, organization, or individual for the purposes of performing audit or oversight operations as authorized by law;

to the U.S. Department of Justice and to legal counsel when related to litigation or anticipated litigation;

to a court, magistrate, or administrative tribunal in the course of presenting evidence, including disclosures to opposing counsel or witnesses in the course of civil discovery, litigation, or settlement negotiations, or in response to a subpoena, or in connection with criminal law proceedings;

to a Congressional office, for the record of an individual in response to an inquiry from that Congressional office made at the request of the individual to whom the record pertains; or to Federal, State, or local agencies where necessary to obtain information relevant to the hiring or retention of an employee, or the issuance of a security clearance, contract, license, grant or other benefit.

See also 36 CFR 1008.9.

Disclosure to consumer reporting agencies:

As permitted by 5 U.S.C. 552a(b)(12), and in accordance with section 3(d) of the Federal Claims Collection Act of 1966, as amended (31 U.S.C. 3711(f)), all or a portion of the records or information contained in this system may be disclosed to consumer reporting agencies.

Policies and practices for storing, retrieving, accessing, retaining, and disposing of records in the system:

Storage:

Paper records.

Retrievability:

By name of individual.

Safeguards:

Access to records is limited to the custodian of the records and persons who require use of the records in the performance of their official duties.

Records are stored in file cabinets in supervised office areas or in locked storage areas.

Retention and disposal:

Records are retained indefinitely.

System manager(s) and address:

John Stewart Co., 558 Presidio Boulevard, San Francisco, CA 94129.

John Stewart Co., 1504 Pershing Drive, Suite E, San Francisco, CA 94129.

Notification procedure:

All inquiries about this system of records shall be addressed to Privacy Act Officer, The Presidio Trust, 34 Graham St., P.O. Box 29052, San Francisco, CA 94129-0052, as provided in 36 CFR 1008.11, .16.

Record access procedures:

Requests for access to a record shall be addressed to Privacy Act Officer, The Presidio Trust, 34 Graham St., P.O. Box 29052, San Francisco, CA 94129-0052, as provided in 36 CFR 1008.13-.14, .16-.17.

Contesting record procedures:

Requests to amend a record shall be addressed to Privacy Act Officer, The Presidio Trust, 34 Graham St., P.O. Box 29052, San Francisco, CA 94129-0052, as provided in 36 CFR 1008.18-.19, .22, .24.

Record source categories:

Individual to whom the record pertains, credit reporting agencies, county records, current or former landlords.

PT-7

System name:

Inactive Residential Leasing Files.

System location:

558 Presidio Boulevard, San Francisco, CA 94129.

1504 Pershing Drive, Suite E, San Francisco, CA 94129.

Categories of individuals covered by the system:

Former Presidio Trust residential leaseholders.

Categories of records in the system:

Former tenant files containing tenant name, address, lease documents, correspondence, applications for housing, consumer credit reports, criminal background reports, civil background reports, Social Security numbers, income and landlord references, employer information, accounting records, parking agreements, rules and regulations, move-in and move-out records, etc.

Authority for maintenance of the system:

Title I, Omnibus Parks Public Lands Act of 1996, Public Law 104-333, 110 Stat. 4097.

Purpose(s):

To retain documentation for former residential tenants.

Routine uses of records maintained in the system, including categories of users and the purposes of such uses:

In addition to those disclosures generally permitted under 5 U.S.C. 552a(b), all or a portion of the records or information contained in this system may be disclosed outside the Presidio Trust as a routine use pursuant to 5 U.S.C. 552a(b)(3) as follows:

to administer and facilitate leasing and utilization of the Presidio;

to administer and facilitate accounts relating to the Presidio Trust;

to administer and facilitate service contracts relating to the Presidio Trust;

to officers and employees of John Stewart Co. who have a need for the records or information in the performance of their duties for the purposes described above;

to an agency, organization, or individual for the purposes of performing audit or oversight operations as authorized by law;

to the U.S. Department of Justice and to legal counsel when related to litigation or anticipated litigation;

to a court, magistrate, or administrative tribunal in the course of presenting evidence, including disclosures to opposing counsel or witnesses in the course of civil discovery, litigation, or settlement negotiations, or in response to a subpoena, or in connection with criminal law proceedings;

to a Congressional office, for the record of an individual in response to an inquiry from that Congressional office made at the request of the individual to whom the record pertains; or to Federal, State, or local agencies where necessary to obtain information relevant to the hiring or retention of an employee, or the issuance of a security clearance, contract, license, grant or other benefit.

See also 36 CFR 1008.9.

Disclosure to consumer reporting agencies:

As permitted by 5 U.S.C. 552a(b)(12), and in accordance with section 3(d) of the Federal Claims Collection Act of 1966, as amended (31 U.S.C. 3711(f)), all or a portion of the records or information contained in this system may be disclosed to consumer reporting agencies.

Policies and practices for storing, retrieving, accessing, retaining, and disposing of records in the system:

Storage:

Paper records.

Retrievability:

By name of individual or address.

Safeguards:

Access to records is limited to the custodian of the records and persons who require use of the records in the performance of their official duties.

Records are stored in file cabinets in supervised office areas or in locked storage areas.

Retention and disposal:

Records are retained indefinitely.

System manager(s) and address:

John Stewart Co., 558 Presidio Boulevard, San Francisco, CA 94129.

John Stewart Co., 1504 Pershing Drive, Suite E, San Francisco, CA 94129.

Notification procedure:

All inquiries about this system of records shall be addressed to Privacy Act Officer, The Presidio Trust, 34 Graham St., P.O. Box 29052, San Francisco, CA 94129-0052, as provided in 36 CFR 1008.11, .16.

Record access procedures:

Requests for access to a record shall be addressed to Privacy Act Officer, The Presidio Trust, 34 Graham St., P.O. Box 29052, San Francisco, CA 94129-0052, as provided in 36 CFR 1008.13-.14, .16-.17.

Contesting record procedures:

Requests to amend a record shall be addressed to Privacy Act Officer, The Presidio Trust, 34 Graham St., P.O. Box 29052, San Francisco, CA 94129-0052, as provided in 36 CFR 1008.18-.19, .22, .24.

Record source categories:

Individual to whom the record pertains, credit reporting agencies, county records, current or former landlords, officers and employees of John Stewart Co.

Dated: January 31, 2008.
Karen A. Cook,
General Counsel.

[FR Doc. E8-2128 Filed 2-5-08; 8:45 am]

BILLING CODE 4310-4R-P